DEPARTMENT OF COMMERCE

International Trade Administration

[C-570-968]

Aluminum Extrusions From the People's Republic of China: Preliminary Results of Countervailing Duty Administrative Review; 2010 and 2011

AGENCY: Import Administration, International Trade Administration, Department of Commerce.

SUMMARY: The Department of Commerce (the Department) is conducting an administrative review of the countervailing duty (CVD) order on aluminum extrusions from the People's Republic of China (PRC). The period of review (POR) is September 7, 2010, through December 31, 2011. We preliminary determine that the Alnan Companies ¹ and Changzhou Changzheng Evaporator Co., Ltd. received countervailable subsidies during the POR.

¹ The Alnan Companies are Alnan Aluminum Co., Ltd. (Alnan Aluminum), Alnan Aluminum Foil Co., Ltd. (Alnan Foil), Alnan (Shanglin) Industry Co., Ltd. (Shanglin Industry), and Shanglin Alnan Alunimun Comprehensive Utilization Power Co., Ltd. (Shanglin Power). Kromet International Inc., one of the mandatory respondents in this administrative review, reported in that it is a Canada-based company that sold subject merchandise produced by the Alnan Companies.

DATES: Effective Date: June 10, 2013.

FOR FURTHER INFORMATION CONTACT: Robert Copyak and Kristen Johnson, AD/CVD Operations, Office 8, Import Administration, International Trade Administration, U.S. Department of Commerce, 14th Street and Constitution Avenue NW., Washington, DC 20230; telephone (202) 482-2209 and (202) 482-4793, respectively.

Scope of the Order

The merchandise covered by the Order ² is aluminum extrusions which are shapes and forms, produced by an extrusion process, made from aluminum alloys having metallic elements corresponding to the alloy series designations published by The Aluminum Association commencing with the numbers 1, 3, and 6 (or proprietary equivalents or other certifying body equivalents).³

² See Aluminum Extrusions from the People's Republic of China: Countervailing Duty Order, 76 FR 30653 (May 26, 2011) (Order).

³ See “Decision Memorandum for Preliminary Results of the Countervailing Duty Administrative Review: Aluminum Extrusions from the People's Republic of China,” from Christian Marsh, Deputy Assistant Secretary for Antidumping and Countervailing Duty Operations to Paul Piquado, Assistant Secretary for Import Administration, dated concurrently with this notice (Preliminary Decision Memorandum) for a complete description of the scope of the Order.

Imports of the subject merchandise are provided for under the following categories of the Harmonized Tariff Schedule of the United States (HTSUS): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8516.90.50.00, 8516.90.80.50, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.⁴

⁴ See Order.

The Preliminary Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Preliminary Decision Memorandum can be accessed directly on the internet at http://www.trade.gov/ia/. The signed Preliminary Decision Memorandum and the electronic version of the Preliminary Decision Memorandum are identical in content.

Methodology

The Department has conducted this review in accordance with section 751(a)(1)(A) of the Tariff Act of 1930, as amended (the Act). For each of the subsidy programs found countervailable, we preliminarily find that there is a subsidy, i.e., a government-provided financial contribution that gives rise to a benefit to the recipient, and that the subsidy is specific. See sections 771(5)(B) and (D) of the Act regarding financial contribution; section 771(5)(E) of the Act regarding benefit; and section 771(5A) of the Act regarding specificity.

In making these preliminary findings, we are relying, in part, on facts available because the Government of the PRC did not act to the best of its ability to respond to the Department's requests for information. Further, we are drawing an adverse inference in selecting from among the facts otherwise available. See sections 776(a) and (b) of the Act. For further information, see “Use of Facts Otherwise Available and Adverse Inferences” in the Preliminary Decision Memorandum.

Additionally, we are relying on facts available for three companies ⁵ because they withheld requested information did not act to the best of their ability to respond to the Department's quantity and value questionnaire. To calculate the ad valorem rate for these companies, we have drawn an adverse inference in selecting from among the facts otherwise available.⁶ For derivation of the adverse facts available rate, see “Use of Facts Otherwise Available and Adverse Inferences” in the Preliminary Decision Memorandum.

⁵ Foshan Yong Li Jian Alu. Ltd., North China Aluminum Co., Ltd., and Taishan City Kam Kiu Aluminum Extrusion Co., Ltd.

⁶ See sections 776(a) and (b) of the Act.

For a full description of the methodology underlying all of the Department's conclusions, see Preliminary Decision Memorandum.

Rate for Non-Selected Companies Under Review

There are 49 companies for which a review was requested and not rescinded, but were not selected as mandatory respondents. We are assigning to those companies an average of the subsidy rates calculated for the mandatory respondents for 2010 and 2011, respectively. For further information on the calculation of the non-selected rate, see “Preliminary Ad Valorem Rate for Non-Selected Companies under Review” in the Preliminary Decision Memorandum.

Preliminary Results of the Review

As a result of this review, we preliminarily determine the listed net subsidy rates for 2010 and 2011:

Company | 2010 Ad Valorem rate percent | 2011 Ad Valorem rate percent
Alnan Aluminum Co., Ltd. (Alnan Aluminum), Alnan Aluminum Foil Co., Ltd. (Alnan Foil), Alnan (Shanglin) Industry Co., Ltd. (Shanglin Industry), and Shanglin Alnan Alunimun Comprehensive Utilization Power Co., Ltd. (Shanglin Power) (collectively, the Alnan Companies) | 24.12 | 39.98
Changzhou Changzheng Evaporator Co., Ltd. and its cross-owned affiliate Liaoning Changzheng Aluminum Company (Changzheng Evaporator) | 1.02 | 1.51
Acro Import and Export Corp | 12.57 | 20.75
Changsha Hengjia Aluminum Co., Ltd | 12.57 | 20.75
Changshu Changsheng Aluminum Products Co., Ltd. (Changsheng) | 12.57 | 20.75
Changzhou Changfa Power Machinery Co., Ltd | 12.57 | 20.75
Changzhou Tenglong Auto Parts Co., Ltd | 12.57 | 20.75
Dongguan Aoda Aluminum Co., Ltd | 12.57 | 20.75
Dongguan Golden Tiger Hardware Industrial Co., Ltd. No 96 (Golden Tiger) | 12.57 | 20.75
Dynamic Technologies China Ltd | 12.57 | 20.75
Foreign Trade Co. of Suzhou New & Hi-Tech Industrial Development Zone (Suzhou New Hi Tech) | 12.57 | 20.75
Foshan Shunde Aoneng Electrical Appliances Co., Ltd | 12.57 | 20.75
Global PMS (Dongguan) Co., Ltd. (Global PMX) | 12.57 | 20.75
Golden Dragon Precise Copper Tube Group Inc | 12.57 | 20.75
Gree Electric Appliances, Inc. of Zhuhai | 12.57 | 20.75
Guandong Nanhai Foodstuffs Imp & Exp Co., Ltd. (Nanhai) | 12.57 | 20.75
Guangdong Grand Shine Construction Material, Co., Ltd. | 12.57 | 20.75
Guangdong Whirlpool Electrical Appliances Co., Ltd. (Guangdong Whirlpool) | 12.57 | 20.75
Guangzhou Mingcan Die-Casting Hardware Products Co., Ltd | 12.57 | 20.75
Hangzhou Xingyi Metal Products Co., Ltd | 12.57 | 20.75
Hanyung Alcobis Co., Ltd | 12.57 | 20.75
Henan New Kelong Electrical Appliances, Co., Ltd | 12.57 | 20.75
Huimeigao Aluminum Foshan Co., Ltd. (Huimeigao) | 12.57 | 20.75
IDEX Dinglee Technology (Tianjin) Co., Ltd. (IDEX Dinglee) | 12.57 | 20.75
Isource Asia Limited (Isource) | 12.57 | 20.75
Jiangsu Changfa Refrigeration Co., Ltd | 12.57 | 20.75
Jiaxing Jackson Travel Products Co., Ltd | 12.57 | 20.75
Jiaxing Taixin Metal Products Co., Ltd | 12.57 | 20.75
Justhere Co., Ltd | 12.57 | 20.75
Kunshan Giant Light Metal Technology Co., Ltd. (Giant) | 12.57 | 20.75
Metaltek Group Co., Ltd | 12.57 | 20.75
Metaltek Metal Industry Co., Ltd | 12.57 | 20.75
Midea International Trading Co., Ltd | 12.57 | 20.75
Pingguo Asia Aluminium Co., Ltd. (Pingguo) | 12.57 | 20.75
Shandong Huasheng Pesticide Machinery Co | 12.57 | 20.75
Shanghai Tongtai Precise Aluminum Alloy Manufacturing Co., Ltd. (Tongtai) | 12.57 | 20.75
Shanxi Guanly Changzhou Hongfeng Metal Processing Co., Ltd | 12.57 | 20.75
Shenzhen Hudson Technology Development Co., Ltd. (Shenzhen Hudson) | 12.57 | 20.75
Shenzhen Jiuyuan Co., Ltd. (aka, Jiuyuan Co., Ltd. and Shenzhen Jiuyuan Import and Export Co., Ltd. (collectively, Jiuyuan)) | 12.57 | 20.75
Sincere Profit Limited | 12.57 | 20.75
Skyline Exhibit Systems (Shanghai) Co., Ltd | 12.57 | 20.75
Suzhou JRP Import & Export Co., Ltd. (JRP) | 12.57 | 20.75
Suzhou NewHongji Precision Part Co., Ltd. (Suzhou NewHongji) | 12.57 | 20.75
Taizhou Lifeng Manufacturing Corporation | 12.57 | 20.75
Tianjin Jinmao Import & Export Corp., Ltd | 12.57 | 20.75
Union Industry (Asia) Co., Ltd | 12.57 | 20.75
Xin Wei Aluminum Company Limited, Guang Dong Xin Wei Aluminum Products Co., Ltd., and Xin Wei Aluminum Co., Ltd. (collectively, Xin Wei) | 12.57 | 20.75
Zhaoqing Asia Aluminum Factory Company Limited (ZAA) | 12.57 | 20.75
Zhejiang Xinlong Industry Co., Ltd | 12.57 | 20.75
Zhongshan Gold Mountain Aluminium Factory Ltd., Gold Mountain International Development, Limited (collectively, Zhongshan Gold Mountain) | 12.57 | 20.75
Zhuhai Runxingtai Electrical Equipment Co., Ltd. (Zhuhai Runxingtai) | 12.57 | 20.75
Foshan Yong Li Jian Alu. Ltd | 170.66 | 170.66
North China Aluminum Co., Ltd | 170.66 | 170.66
Taishan City Kam Kiu Aluminum Extrusion Co., LTD | 170.66 | 170.66

Disclosure and Public Comment

The Department will disclose to parties to this proceeding the calculations performed in reaching the preliminary results within five days of the date of publication of these preliminary results.⁷ Interested parties may submit written arguments (case briefs) within 30 days of publication of the preliminary results and rebuttal comments (rebuttal briefs) within five days after the time limit for filing the case briefs.⁸ Pursuant to 19 CFR 351.309(d)(2), rebuttal briefs must be limited to issues raised in the case briefs. Parties who submit arguments are requested to submit with the argument: (1) Statement of the issue; (2) a brief summary of the argument; and (3) a table of authorities.

⁷ See 19 CFR 351.224(b).

⁸ See 19 CFR 351.309(c)(1)(ii) and 351.309(d)(1).

Interested parties, who wish to request a hearing, or to participate if one is requested, must submit a written request to the Assistant Secretary for Import Administration, U.S. Department of Commerce within 30 days after the date of publication of this notice.⁹ Requests should contain the party's name, address, and telephone number, the number of participants, and a list of the issues to be discussed. If a request for a hearing is made, we will inform parties of the scheduled date for the hearing, which will be held at the U.S. Department of Commerce, 14th Street and Constitution Avenue NW., Washington, DC 20230, at a time and location to be determined.¹⁰ Parties should confirm by telephone the date, time, and location of the hearing.

⁹ See 19 CFR 351.310(c).

¹⁰ See 19 CFR 351.310.

Parties are reminded that briefs and hearing requests are to be filed electronically using IA ACCESS and that electronically filed documents must be received successfully in their entirety by 5:00 p.m. Eastern Time on the due date.

Unless the deadline is extended pursuant to section 751(a)(3)(A) of the Act, the Department will issue the final results of this administrative review, including the results of our analysis of the issues raised by parties in their comments, within 120 days after issuance of these preliminary results.

Assessment Rates

Upon issuance of the final results, the Department shall determine, and U.S. Customs and Border Protection (CBP) shall assess, countervailing duties on all appropriate entries covered by this review. We intend to issue instructions to CBP 15 days after publication of the final results of this review.

Cash Deposit Instructions

The Department also intends to instruct CBP to collect cash deposits of estimated countervailing duties in the amounts calculated for year 2011. For all non-reviewed firms, we will instruct CBP to collect cash deposits of estimated countervailing duties at the most recent company-specific or all-others rate applicable to the company. These cash deposit requirements, when imposed, shall remain in effect until further notice.

This administrative review and notice are in accordance with sections 751(a)(1) and 777(i)(1) of the Act and 19 CFR 351.213.

Dated: June 3, 2013.
Paul Piquado,
Assistant Secretary for Import Administration.

Appendix I

List of Topics Discussed in the Preliminary Decision Memorandum:

1. Summary

2. Background

3. Scope of the Order

4. Use of Facts Otherwise Available and Adverse Inferences

5. Subsidy Valuation Information

6. Loan Benchmark Rates

7. Analysis of Programs

8. Preliminary Ad Valorem Rate for Non-Selected Companies Under Review

9. Preliminary Ad Valorem Rate for Non-Cooperative Companies Under Review

10. Conclusion

[FR Doc. 2013-13720 Filed 6-7-13; 8:45 am]

BILLING CODE 3510-DS-P